AGENCY FOR INTERNATIONAL DEVELOPMENT

Malaria Vaccine Development Program, Federal Advisory Committee; Notice of Meeting

Pursuant to the Federal Advisory Committee Act, notice is hereby given of a meeting of the USAID Malaria Vaccine Development Program (MVDP) Federal Advisory Committee. The meeting will be held from 9 a.m. to 5 p.m. on February 2, 2000 and from 9 a.m. to noon on February 3, 2000 at the Conference Room of the Environmental Health Project located in Suite 300, 1611 North Kent Street in Arlington, VA 22209-2111.

The agenda will concentrate on the activities of the MVDP over the past six months and on future plans. The meeting will be open to the public on 2 February unless it is necessary to discuss procurement sensitive information; should this be the case, it will be announced and the meeting closed at the appropriate time. Such issues will be discussed on 3 February on which date the meeting will be closed. Any interested person may attend the meeting, may file written statements with the committee before or after the meeting, or present any oral statements in accordance with procedures established by the committee, to the extent that time available for the meeting permits.

Those wishing to attend the meeting or to obtain additional information about the USAID MVDP should contact Carter Diggs, the designated Federal Officer for the USAID MVDP Federal Advisory Committee at the Office of Health and Nutrition, USAID/G/PHN/HN/EH, Room 3.07-013, 3rd floor, RRB, Washington, DC 20523-3700, telephone (202) 712-5728, Fax (202) 216-3702, cdiggs@usaid.gov.

Carter Diggs,
USAID Designated Federal Officer, Technical Advisor, Malaria Vaccine, Development Program.

[FR Doc. 00-1672 Filed 1-24-00; 8:45 am]

BILLING CODE 6116-01-M